DEPARTMENT OF TRANSPORTATION

Federal Highway Administration

Value Pricing Pilot Program Participation, Fiscal Years 2010 and 2011

AGENCY: Federal Highway Administration (FHWA), DOT.

ACTION: Notice of extension of deadline.

SUMMARY: The FHWA is extending the deadline for formal grant applications for the Value Pricing Pilot (VPP) program, which was published on October 19, 2010, at 75 FR 64397. The original deadline for formal grant applications was January 18, 2011. This notice extends the deadline by 15 calendar days to February 2, 2011.

DATES: Formal grant applications must be submitted no later than 5 p.m., Eastern, on February 2, 2011.

Application Submission: Grant applications may be submitted through http://www.grants.gov. Applications for tolling authority only should be submitted through an expression of interest at the following Web site: http://ops.fhwa.dot.gov/tolling_pricing/participation.htm.

FOR FURTHER INFORMATION CONTACT: For questions about this notice or for general questions related to the VPP program, please contact Ms. Angela Jacobs, FHWA Office of Operations, at (202) 366-0076, angela.jacobs@dot.gov. For technical questions related to the development of pricing projects involving tolls, please also contact Ms. Angela Jacobs, or contact Mr. Patrick DeCorla-Souza, FHWA Office of Innovative Program Delivery, at (202) 366-4076, patrick.decorla-souza@dot.gov. For technical questions related to the development of pricing projects not involving tolls, please contact Mr. Allen Greenberg, FHWA Office of Operations, at (202) 366-2425, allen.greenberg@dot.gov. For legal questions, please contact Mr. Michael Harkins, FHWA Office of the Chief Counsel, at (202) 366-4928, michael.harkins@dot.gov.

SUPPLEMENTARY INFORMATION:

Electronic Access

An electronic copy of this document may be downloaded from the Federal Register's home page at: http://www.archives.gov and the Government Printing Office's database at: http://www.access.gpo.gov/nara.

Background

On October 19, 2010, at 75 FR 64397, the FHWA published in the Federal Register a notice inviting States, along with their local government partners and other public authorities, to apply to participate in the Value Pricing Pilot program and presenting guidelines for program applications for fiscal years 2010 and 2011. The original deadline for formal grant applications was January 18, 2011. This notice extends the deadline by 15 calendar days to February 2, 2011. Program application requirements and further application guidance can be found in the October 19, 2010, notice.

Authority: 23 U.S.C. 315; sec. 1216(a), Pub. L. 105-178, 112 Stat. 107; Pub. L. 109-59; 117 Stat. 1144.

Issued on: January 13, 2011.
Victor M. Mendez,
Administrator.

[FR Doc. 2011-1066 Filed 1-18-11; 8:45 am]

BILLING CODE 4910-22-P